NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twenty-one meetings, by videoconference, of the Humanities Panel, a federal advisory committee, during April 2023. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: April 3, 2023

This video meeting will discuss applications on the topic of Pedagogy, for the Digital Humanities Advancement Grants program, submitted to the Office of Digital Humanities.

2. Date: April 4, 2023

This video meeting will discuss applications on the topic of Scholarly Communications, for the Digital Humanities Advancement Grants program, submitted to the Office of Digital Humanities.

3. Date: April 4, 2023

This video meeting will discuss applications on the topics of Philosophy and Religious Studies, for the Institutes for Higher Education Faculty grant program, submitted to the Division of Education Programs.

4. Date: April 4, 2023

This video meeting will discuss applications on the topic of U.S. History (after Civil War), for the Institutes for K-12 Educators grant program, submitted to the Division of Education Programs.

5. Date: April 4, 2023

This video meeting will discuss applications on the topics of Archaeology, Anthropology, and Native American, for the Sustaining Cultural Heritage Collections grant program, submitted to the Division of Preservation and Access.

6. Date: April 4, 2023

This video meeting will discuss applications on the topics of Teaching and Public Engagement, for the Dangers and Opportunities of Technology: Perspectives from the Humanities (Collaborative) grant program, submitted to the Office of Digital Humanities.

7. Date: April 5, 2023

This video meeting will discuss applications on the topics of Native American and Asian American History and Culture, for the Landmarks of American History and Culture grant program, submitted to the Division of Education Programs.

8. Date: April 5, 2023

This video meeting will discuss applications on the topics of Geography and World Language, for the Institutes for K-12 Educators grant program, submitted to the Division of Education Programs.

9. Date: April 5, 2023

This video meeting will discuss applications on the topic of History (State, Local, and Regional), for the Sustaining Cultural Heritage Collections grant program, submitted to the Division of Preservation and Access.

10. Date: April 6, 2023

This video meeting will discuss applications on the topic of History (Historic Sites and Houses), for the Sustaining Cultural Heritage Collections grant program, submitted to the Division of Preservation and Access.

11. Date: April 6, 2023

This video meeting will discuss applications on the topic of Geographies, for the Institutes for Higher Education Faculty grant program, submitted to the Division of Education Programs.

12. Date: April 6, 2023

This video meeting will discuss applications on the topics of Place, Migration, and Public History, for the Landmarks of American History and Culture grant program, submitted to the Division of Education Programs.

13. Date: April 7, 2023

This video meeting will discuss applications on the topic of History (National and Special Subject), for the Sustaining Cultural Heritage Collections grant program, submitted to the Division of Preservation and Access.

14. Date: April 11, 2023

This video meeting will discuss applications on the topic of Public Humanities, for the Digital Humanities Advancement Grants program, submitted to the Office of Digital Humanities.

15. Date: April 11, 2023

This video meeting will discuss applications on the topic of Cultural History, for the Media Projects Production grant program, submitted to the Division of Public Programs.

16. Date: April 12, 2023

This video meeting will discuss applications on the topic of U.S. History, for the Public Humanities Projects: Exhibitions (Implementation) grant program, submitted to the Division of Public Programs.

17. Date: April 13, 2023

This video meeting will discuss applications on the topics of Arts and Culture, for the Public Humanities Projects: Exhibitions (Implementation) grant program, submitted to the Division of Public Programs.

18. Date: April 14, 2023

This video meeting will discuss applications on the topic of Arts, for the Public Humanities Projects: Humanities Discussions Grants program, submitted to the Division of Public Programs.

19. Date: April 17, 2023

This video meeting will discuss applications for the Institutes for Advanced Topics in the Digital Humanities grant program, submitted to the Office of Digital Humanities.

20. Date: April 18, 2023

This video meeting will discuss applications on the topic of Cultural History, for the Media Projects Production grant program, submitted to the Division of Public Programs.

21. Date: April 19, 2023

This video meeting will discuss applications on the topics of History and Civics, for the Public Humanities Projects: Humanities Discussions Grants program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: March 10, 2023.
Jessica Graves,
Legal Administrative Specialist, National Endowment for the Humanities.

[FR Doc. 2023-05343 Filed 3-15-23; 8:45 am]

BILLING CODE 7536-01-P